DEPARTMENT OF TRANSPORTATION

Office of the Secretary

Aviation Proceedings, Agreements Filed During the Week Ending July 14, 2000

The following Agreements were filed with the Department of Transportation under the provisions of 49 U.S.C. Sections 412 and 414. Answers may be filed within 21 days of date of filing.

Docket Number: OST-2000-7625.

Date Filed: July 10, 2000.

Parties: Members of the International Air Transport Association.

Subject:

PTC2 ME 0083 dated 27 June 2000

Within Middle East Resolutions r1-r16

Minutes—PTC2 ME 0082 dated 23 June 2000

Tables—PTC2 ME Fares 0029 dated 30 June 2000

Intended effective date: 1 January 2001

Docket Number: OST-2000-7626.

Date Filed: July 10, 2000.

Parties: Members of the International Air Transport Association.

Subject:

CTC COMP 0289 dated 2 June 2000

Worldwide Area Resolutions, Standard Revalidating

Resolutions 002

Intended effective date: 1 October 2000

Docket Number: OST-2000-7632.

Date Filed: July 11, 2000.

Parties: Members of the International Air Transport Association.

Subject:

PTC12 USA-EUR 0098 dated 20 June 2000 and

PTC12 USA-EUR 0104 dated 14 July 2000

Mail Vote 080—TC12 North Atlantic

USA-Austria, Belgium, Germany, Italy, Netherlands,

Scandinavia, Switzerland

Minutes—PTC12 USA-EUR 0101 dated 23 June 2000

Tables—PTC12 USA-EUR Fares 0046 dated 14 July 2000

Intended effective date: 1 November 2000

Docket Number: OST-2000-7647.

Date Filed: July 13, 2000.

Parties: Members of the International Air Transport Association.

Subject:

PAC/Reso/408 dated June 30, 2000

Expedited Reso 860 r-1

Intended effective date: August 1, 2000

Andrea M. Jenkins,
Federal Register Liaison.

[FR Doc. 00-19237 Filed 7-28-00; 8:45 am]

BILLING CODE 4910-62-P